DEPARTMENT OF THE INTERIOR

National Park Service

[NPS-WASO-NRNHL-22634; PPWOCRADI0, PCU00RP14.R50000]

National Register of Historic Places; Notification of Pending Nominations and Related Actions

AGENCY: National Park Service, Interior.

ACTION: Notice.

SUMMARY: The National Park Service is soliciting comments on the significance of properties nominated before December 17, 2016, for listing or related actions in the National Register of Historic Places.

DATES: Comments should be submitted by March 21, 2017.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before December 17, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Pima County

Downtown Tucson Historic District, Multiple, Tucson, SG100000591

ARKANSAS

Washington County

Patrick, Dr. James. House, 370 N. Williams Dr., Fayetteville, SG100000592

CALIFORNIA

Orange County

Beckman Instruments Inc. Administration Building, 4300 N. Harbor Blvd., Fullerton, SG100000620

CONNECTICUT

Fairfield County

Hoyt—Burwell—Morse House, 8 Ferris Hill Rd., 441 Canoe Hill Rd., New Canaan, SG100000594

DISTRICT OF COLUMBIA

District of Columbia

Glade Apartments, (Apartment Buildings in Washington, DC, MPS), 1370-1372 Ft. Stevens Dr. NW., Washington, MP100000595

Union Market Historic District, Between 4th & 5th Sts. NE., Florida Ave. & Penn St. NE., Washington, SG100000596

LOUISIANA

Grant Parish

Sparrow Lane Bridge, .3 mi. SE. of LA 492, Colfax vicinity, SG100000597

Lincoln Parish

Downtown Ruston Historic District, Bounded by N. Monroe, N. Bonner, S. Virginia, S. Vienna & S. Trenton Sts., W. Alabama, E. Railroad & W. Texas Aves., Ruston, SG100000598

Orleans Parish

Methodist Home Hospital, 821 Washington Ave., New Orleans, SG100000599

Sara Mayo Hospital, 625 Jackson Ave., New Orleans, SG100000600

Ouachita Parish

Downtown Monroe Historic District, Roughly bounded by Ouachita R., Harrison, N. & S. 6th, Washington & Breard Sts., Monroe, BC100000601

Rapides Parish

Dellmon, Myrtle Groves Huie, House, 430 St. James St., Alexandria, SG100000603

MICHIGAN

Wayne County

Weil and Company—Gabriel Richard Building, 305 Michigan Ave., Detroit, SG100000604

MINNESOTA

Fillmore County

Lanesboro Historic District (Fillmore County MRA), Roughly bounded by Ashburn St. E, Parkway Ave. N. & S., Root R., Elmwood St. W. & Kirkwood St., Lanesboro, BC100000605

MISSOURI

Adair County

Lincoln School, 907 S. Wabash St., Kirksville, SG100000606

Buchanan County

Hall School, 2509 Duncan St., St. Joseph, SG100000607

Scotland County

Rutledge School, 142 2nd St., Rutledge, SG100000608

St. Louis Independent City

138th Infantry Missouri National Guard Armory, 3660 Market St., St. Louis (Independent city), SG100000609

NEW YORK

Chenango County

Jewell Family Homestead, 120 Furnace Rd., Guilford, SG100000611

Genesee County

Le Roy Historic District, 7-9 Clay, 8-8½ Lake, 1-73, 2-72 Main, 7 Mill, 8-62, 3-61 W. Main Sts., Le Roy, SG100000612

Greene County

Cornwallville Cemetery, Cty. Rd. 20, Cornwallville, SG100000613

Rockland County

Blauvelt—Cropsey Farm, 230 S. Little Tor Rd., New City, SG100000614

Green, John, House, 23 Main St., Nyack, SG100000615

Westchester County

St. John's Episcopal Church, 8 Sunnyside Ave., Pleasantville, SG100000616

Nominations submitted by Federal Preservation Officers:

NEVADA

Douglas County

de 'ek wadapush (Cave Rock) Traditional Cultural Property, Address Restricted, Lincoln Park vicinity, SG100000610

The State Historic Preservation Officer reviewed the nomination and responded to the Federal Preservation Officer within 45 days of receipt of the nomination and supports listing the property in the National Register of Historic Places.

OREGON

Columbia County

United States Post Office (Scappoose), (U.S. Post Office Department Facilities in Oregon 1940-1971 MPS), 52643 Columbia R. Hwy., Scappoose, MP100000618

The State Historic Preservation Officer reviewed the nomination and responded to the Federal Preservation Officer within 45 days of receipt of the nomination and supports listing the property in the National Register of Historic Places.

SOUTH CAROLINA

Spartanburg County

United States Post Office and Court House, 201 Magnolia St., Spartanburg, SG100000619

The State Historic Preservation Officer reviewed the nomination and responded to the Federal Preservation Officer within 45 days of receipt of the nomination and supports listing the property in the National Register of Historic Places.

Additional documentation has been received for the following resource(s):

LOUISIANA

Orleans Parish

Jackson Barracks, 6400 St. Claude Ave., New Orleans, AD76000969

Ouachita Parish

Downtown Monroe Historic District, Roughly bounded by Desiard, Jackson, Telemaque, and S. Grand Sts., Monroe, AD86002202

Authority: 60.13 of 36 CFR part 60.

Dated: December 22, 2016.
J. Paul Loether,
Chief, National Register of Historic Places/National Historic Landmarks Program.

[FR Doc. 2017-04199 Filed 3-3-17; 8:45 am]

BILLING CODE 4312-52-P